DEPARTMENT OF THE INTERIOR

United States Geological Survey

[GX15EN05ESB0500]

Opening of Nomination Period for Members of the Advisory Committee on Climate Change and Natural Resource Science

AGENCY: U.S. Geological Survey, Interior.

ACTION: Notice of Opening of Nomination Period.

SUMMARY: The Department of the Interior is inviting nominations for membership on the Advisory Committee on Climate Change and Natural Resource Science. This Federal Register Notice opens the nomination period for 60 days.

DATES: Written nominations must be received by June 1, 2015.

ADDRESSES: Send nominations to: Lisa LaCivita, National Climate Change and Wildlife Science Center, U.S. Geological Survey, 12201 Sunrise Valley Drive, Mail Stop 516, Reston, VA 20192, nccwsc@usgs.gov.

FOR FURTHER INFORMATION CONTACT: Mr. Robin O'Malley, Designated Federal Officer for ACCCNRS, Policy and Partnership Coordinator, National Climate Change and Wildlife Science Center, U.S. Geological Survey, 12201 Sunrise Valley Drive, Mail Stop 516, Reston, VA 20192, romalley@usgs.gov, (703) 648-4086.

SUPPLEMENTARY INFORMATION: In May 2013, the Advisory Committee on Climate Change and Natural Resource Science (ACCCNRS) was originally chartered and 25 members were appointed to the committee to provide advice on matters and actions relating to the operations of the U.S. Geological Survey National Climate Change and Wildlife Science Center and the Department of the Interior (DOI) Climate Science Centers. The ACCCNRS Charter can be found at: https://nccwsc.usgs.gov/acccnrs.

In May 2015, membership terms for several committee members will expire, creating approximately 12 membership openings. The Department of the Interior is inviting nominations for individuals to be considered for these membership openings. Only nominations in response to this notice will be considered. Existing ACCCNRS members, whose terms are expiring, must be re-nominated during this open nomination period to be considered. Self-nominations will be accepted. Nominations should include a resume that describes the nominee's qualifications in enough detail to enable us to make an informed decision regarding meeting the membership requirements of the Committee and to contact a potential member. Additional information will be requested from those selected for final review before appointment. Members selected for appointment will be asked to identify an alternate who can participate in their stead; names of proposed alternates need not be submitted at this time.

The Department of the Interior is soliciting members for ACCCNRS to represent the following interests: (1) State and local governments, including state membership entities; (2) Nongovernmental organizations, including those whose primary mission is professional and scientific and those whose primary mission is conservation and related scientific and advocacy activities; (3) American Indian tribes and other Native American entities; (4) Academia; (5) Individual landowners; (6) Business interests

In 2015 and later, the Committee will meet approximately 2 times annually, and at such times as designated by the DFO. The Secretary of the Interior will appoint members to the Committee. Members appointed as special Government employees are required to file on an annual basis a confidential financial disclosure report. No individual who is currently registered as a Federal lobbyist is eligible to serve as a member of the Committee.

Robin O'Malley,
Designated Federal Officer.

[FR Doc. 2015-07082 Filed 3-26-15; 8:45 am]

BILLING CODE 4311-AM-P